DEPARTMENT OF COMMERCE

National Oceanic and Atmospheric Administration

50 CFR Part 679

RIN 0648-BB42

Fisheries of the Exclusive Economic Zone Off Alaska and Pacific Halibut Fisheries; Observer Program

AGENCY: National Marine Fisheries Service (NMFS), National Oceanic and Atmospheric Administration (NOAA), Commerce.

ACTION: Notice of public hearings.

SUMMARY: NMFS will publish a proposed rule in the Federal Register to restructure the funding and deployment system for observers in North Pacific groundfish and halibut fisheries via Amendment 86 to the Fishery Management Plan for Groundfish of the Bering Sea and Aleutian Islands Management Area (BSAI FMP) and Amendment 76 to the Fishery Management Plan for Groundfish of the Gulf of Alaska (GOA FMP). The public comment period for the subject proposed rule will close 60 days after date of publication of the proposed rule in the Federal Register. We will hold public hearings to receive oral and written comments on the proposed regulations during the public comment period.

DATES: The meetings will be held in April and May, 2012. For specific dates and times, see SUPPLEMENTARY INFORMATION.

ADDRESSES: The meetings will be held in Seattle, WA, Newport, OR, and Juneau, AK. For specific locations, see SUPPLEMENTARY INFORMATION.

You may submit written comments, identified by FDMS Docket Number NOAA-NMFS-2011-0210, by any one of the following methods:

• Electronic Submissions: Submit all electronic public comments via the Federal eRulemaking Portal Web site at http://www.regulations.gov. To submit comments via the e-Rulemaking Portal, first click the “Submit a Comment” icon, then enter NOAA-NMFS-2011-0210 in the keyword search. Locate the document you wish to comment on from the resulting list and click on the “Submit a Comment” icon on the right of that line.

• Mail: Address written comments to Glenn Merrill, Assistant Regional Administrator, Sustainable Fisheries Division, Alaska Region NMFS, Attn: Ellen Sebastian. Mail comments to P.O. Box 21668, Juneau, AK 99802-1668.

• Fax: Address written comments to Glenn Merrill, Assistant Regional Administrator, Sustainable Fisheries Division, Alaska Region NMFS, Attn: Ellen Sebastian. Fax comments to 907-586-7557.

• Hand delivery to the Federal Building: Address written comments to Glenn Merrill, Assistant Regional Administrator, Sustainable Fisheries Division, Alaska Region NMFS, Attn: Ellen Sebastian. Deliver comments to 709 West 9th Street, Room 420A, Juneau, AK.

• Hand delivery to NMFS at one of the public hearings listed in this notice.

Comments must be submitted by one of the above methods to ensure that the comments are received, documented, and considered by NMFS. Comments sent by any other method, to any other address or individual, or received after the end of the comment period, may not be considered.

All comments received are a part of the public record and will generally be posted to http://www.regulations.gov without change. All Personal Identifying Information (e.g., name, address) voluntarily submitted by the commenter will be publicly accessible. Do not submit Confidential Business Information or otherwise sensitive or protected information.

NMFS will accept anonymous comments (enter N/A in the required fields, if you wish to remain anonymous). Attachments to electronic comments will be accepted in Microsoft Word, Excel, WordPerfect, or Adobe portable document file (pdf) formats only.

Electronic copies of the proposed rule to implement Amendment 86 to the BSAI FMP and Amendment 76 to the GOA FMP and the Environmental Assessment/Regulatory Impact Review/Initial Regulatory Flexibility Analysis (EA/RIR/IRFA) prepared for this action may be obtained from http://www.regulations.gov or from the NMFS Alaska Region Web site at http://alaskafisheries.noaa.gov.

A copy of the proposed rule that will be published in the Federal Register is available on NMFS Alaska Region's Web page (http://www.alaskafisheries.noaa.gov/sustainablefisheries/observers/default.htm).

FOR FURTHER INFORMATION CONTACT: Brandee Gerke, (907) 586-7228.

SUPPLEMENTARY INFORMATION: NMFS will publish a proposed rule in the Federal Register to restructure the funding and deployment system for observers in the North Pacific groundfish and halibut fisheries via Amendment 86 to the BSAI FMP and Amendment 76 to GOA FMP. Per the requirements of MSA section 313, we will conduct three public hearings to inform interested parties of the proposed regulations and receive written and oral comments.

The proposed rule to implement Amendment 86 to the BSAI FMP and Amendment 76 to the GOA FMP was prepared under the authority of Section 313 of the Magnuson-Stevens Fishery Conservation and Management Act (MSA). MSA section 313 requires NMFS to conduct a public hearing in each state represented on the North Pacific Fishery Management Council (Council) for the purpose of receiving public comment on the proposed regulations. The states represented on the Council are Alaska, Oregon, and Washington.

Meeting Dates, Times, and Locations

We will conduct public hearings on the proposed regulations on the specific dates listed below:

• April 17, 2012; Pacific Daylight Time (PDT) 1 p.m. to 4 p.m., Seattle, WA.

• April 19, 2012, PDT 1 p.m. to 4 p.m., Newport, OR.

• May 2, 2012, Alaska Daylight Time 1 p.m. to 4 p.m., Juneau, AK.

The hearing locations are:

• Seattle, WA—NOAA Western Regional Center, Building 9 Auditorium, 7600 Sand Point Way NE., Bldg. 9, Seattle, WA 98115.

• Newport, OR—Hatfield Marine Science Center, Hennings Auditorium, 2030 SE. Marine Science Dr., Newport, OR 97365.

• Juneau, AK—Centennial Hall, Hickel Room, 101 Egan Drive, Juneau, AK 99801.

People wishing to make an oral statement for the record at a public hearing are encouraged to provide a written copy of their statement and present it to us at the hearing. If attendance at the public hearings is large, the time allotted for individual oral statements may be limited. Oral and written statements receive equal consideration. There are no limits on the length of written comments submitted to us.

There is no need to register for these hearings. Please be advised that a valid government-issued photo-identification will be required for entry through building security at the Seattle, WA, hearings.

Dated: April 12, 2012.
Carrie Selberg,
Acting Director, Office of Sustainable Fisheries, National Marine Fisheries Service.

[FR Doc. 2012-9219 Filed 4-12-12; 4:15 pm]

BILLING CODE 3510-22-P